DEPARTMENT OF HEALTH AND HUMAN SERVICES

Centers for Disease Control and Prevention

[60Day-16-16ACN; Docket No. CDC-2016-0038]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Workplace Health In America, a nationally representative survey of employer-based workplace health programs to describe the current state of U.S. workplace health promotion and protection programs and practices in employers of all sizes, industries and regions.

DATES: Written comments must be received on or before June 27, 2016.

ADDRESSES: You may submit comments, identified by Docket No. CDC-2016-0038 by any of the following methods: Federal eRulemaking Portal: Regulation.gov. Follow the instructions for submitting comments. Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road, NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

CDC Workplace Health Promotion Resource Center—New—National Center for Chronic Disease Prevention and Health Promotion (NCCDPHP), Centers for Disease Control and Prevention (CDC).

Background and Brief Description

The United States faces an unparalleled epidemic of poor health, driven largely by chronic diseases and conditions. A large body of literature shows that poor health, preceded by high levels of modifiable risk factors, is directly correlated with higher health care costs. Chronic conditions affect the workplace through health care costs, employee absences, safety claims, and presenteeism (i.e., decrements in job performance due to health problems).

Workplaces are becoming important settings for health improvement and risk reduction. By improving the work health environment and helping workers achieve long-term behavior change, employers can diminish employees' risks for illnesses, enhance their quality of life, improve morale, eliminate unnecessary health care spending, minimize absences from work, reduce accidents, and increase productivity. Furthermore, having a healthy and productive workforce within a supportive work environment can foster greater loyalty among workers, a more committed workforce, and reduced turnover rates.

Despite their interest in improving the health and well-being of American workers, public and private employers often lack the know-how to do so effectively. A need exists for a trusted resource center housed in a virtual informational clearinghouse (IC) where employers and other stakeholders can access credible research (including best and promising practices), tools and resources, and technical assistance.

CDC plans to conduct information collection needed to design and implement a new CDC Workplace Health Promotion Resource Center (Resource Center), where relevant resources will be vetted, catalogued, compiled, and made publicly available to employers and other key stakeholders. Through the Resource Center, CDC will also provide technical assistance (TA) to employers, with the ultimate aim of improving population health, reducing health care utilization, and improving the productivity of employees. These activities are consistent with CDC's role as the primary Federal agency for protecting health and promoting quality of life through the prevention and control of disease, injury, and disability. The CDC Workplace Health Promotion Resource Center is authorized by the Public Health Service Act and funded through the Prevention and Public Health Fund of the Patient Protection and Affordable Care Act (ACA).

Resource Center development and information collection will be conducted in two phases over a three-year period. In Phase 1 (project years 1 and 2), CDC will conduct formative research to understand the needs and preferences of the target audience. In Phase 2 (project years 2 and 3), CDC will build the Resource Center and IC, provide technical assistance, and assess customer satisfaction.

During Phase 1, CDC will conduct telephone interviews with 50 individuals who represent key Resource Center audiences: Employers (N=10), business groups (N=10), vendors and consultants (N=12), public health organizations (N=4), journalists (N=4), and researchers (N=10). Each tailored interview will be 45-60 minutes in length. Additional information will be collected through an online Needs and Interests Market Survey involving 800 respondents. Findings will be used to tailor the contents, technical support and dissemination practices of the Resource Center to the needs and interests of the target audiences.

During Phase 2, Resource Center products will be launched and CDC will collect brief, online customer satisfaction surveys from approximately 850 users. CDC will also pilot test and evaluate a direct technical assistance component of the Resource Center with approximately 5 selected states using two online surveys: a TA feedback survey and TA pilot assessment. The TA feedback survey will be offered to up to 100 stakeholders after each TA encounter and will take approximately 5 minutes. The TA pilot assessment will be provided at the conclusion of the TA pilot to up to 100 stakeholders and will take approximately 20 minutes. Findings will be used to improve workplace health programs and the offerings of the Resource Center.

OMB approval is requested for three years. Participation is voluntary and there are no costs to respondents other than their time.

Estimated Annualized Burden Hours
Type of respondents | Form name | Number of respondents | Number of responses per respondent | Average burden per response (in hrs.) | Total burden (in hrs.)
Employers | Needs and Interests Interview Guide for Employers | 3 | 1 | 1 | 3
Business Groups, Vendors, Consultants, and Public Health Organizations | Needs and Interests Interview Guide for Business Groups, Vendors, Consultants, and Public Health Organizations | 9 | 1 | 1 | 9
Journalists | Needs and Interests Interview Guide for Journalists | 1 | 1 | 45/60 | 1
Researchers | Needs and Interests Interview Guide for the Research Community | 3 | 1 | 45/60 | 2
Key Stakeholders and Users of the Resource Center (All Groups) | Stakeholder Needs and Interests Market Survey | 267 | 1 | 20/60 | 89
| Consumer Satisfaction Survey | 283 | 1 | 2/60 | 9
Technical Assistance | TA Feedback Survey | 33 | 5 | 5/60 | 14
(TA) Participants | TA Pilot Assessment | 33 | 1 | 20/60 | 11
Total |  |  |  |  | 138

Leroy A. Richardson,
Chief, Information Collection Review Office, Office of Scientific Integrity, Office of the Associate Director for Science, Office of the Director, Centers for Disease Control and Prevention.

[FR Doc. 2016-09638 Filed 4-25-16; 8:45 am]

BILLING CODE 4163-18-P